DEPARTMENT OF THE INTERIOR

National Park Service

[NPS-WASO-NAGPRA-NPS0036095; PPWOCRADN0-PCU00RP14.R50000]

Notice of Inventory Completion: Beloit College, Logan Museum of Anthropology, Beloit, WI

AGENCY: National Park Service, Interior.

ACTION: Notice.

SUMMARY: In accordance with the Native American Graves Protection and Repatriation Act (NAGPRA), the Beloit College, Logan Museum of Anthropology (LMA) has completed an inventory of human remains and an associated funerary object and has determined that there is no cultural affiliation between the human remains and associated funerary object and any Indian Tribe. The human remains and associated funerary object were removed from Logan County, Kentucky.

DATES: Disposition of the human remains and associated funerary object in this notice may occur on or after July 31, 2023.

ADDRESSES: Nicolette B. Meister, Logan Museum of Anthropology, 700 College Street, Beloit, WI 53511, telephone (608) 363-2305, email meistern@beloit.edu.

SUPPLEMENTARY INFORMATION: This notice is published as part of the National Park Service's administrative responsibilities under NAGPRA. The determinations in this notice are the sole responsibility of the LMA. The National Park Service is not responsible for the determinations in this notice. Additional information on the determinations in this notice, including the results of consultation, can be found in the inventory or related records held by the LMA.

Description

Human remains representing, at minimum, five individuals were removed from mounds in Lewisburg in Logan County, KY. These human remains (lot numbers 1851; 1852; 1853; 1854; 1855; 1856; 1857; 1858; 1859; 1860; 1861) were purchased from Warren K. Moorehead in 1926. Moorehead was Curator (1901-1924) and Director (1924-1938) of the Phillips Academy Department of Archaeology. Lot 1860 is currently missing. No known individuals were identified. The one associated funerary object (15488) is a plainware jar removed from a mound in Lewisburg in Logan County, KY.

Aboriginal Land

The human remains and associated funerary object in this notice were removed from known geographic locations. These locations are the aboriginal lands of one or more Indian Tribes. The following information was used to identify the aboriginal land: a final judgment of the Indian Claims Commission or the United States Court of Claims, a treaty, Act of Congress, or Executive Order.

Determinations

Pursuant to NAGPRA and its implementing regulations, and after consultation with the appropriate Indian Tribes, the LMA has determined that:

• The human remains described in this notice represent the physical remains of five individuals of Native American ancestry.

• The one object described in this notice is reasonably believed to have been placed with or near individual human remains at the time of death or later as part of the death rite or ceremony.

• No relationship of shared group identity can be reasonably traced between the human remains and any Indian Tribe.

• The human remains and associated funerary object described in this notice were removed from the aboriginal land of the Absentee-Shawnee Tribe of Indians of Oklahoma; Cherokee Nation; Eastern Band of Cherokee Indians; Eastern Shawnee Tribe of Oklahoma; Miami Tribe of Oklahoma; Quapaw Nation; Shawnee Tribe; The Osage Nation; and the United Keetoowah Band of Cherokee Indians in Oklahoma.

Requests for Disposition

Written requests for disposition of the human remains and associated funerary object in this notice must be sent to the Responsible Official identified in ADDRESSES. Requests for disposition may be submitted by:

1. Any one or more of the Indian Tribes identified in this notice.

2. Any lineal descendant, Indian Tribe, or Native Hawaiian organization not identified in this notice who shows, by a preponderance of the evidence, that the requestor is a lineal descendant or a culturally affiliated Indian Tribe or Native Hawaiian organization, or who shows that the requestor is an aboriginal land Indian Tribe.

Disposition of the human remains and associated funerary object described in this notice to a requestor may occur on or after July 31, 2023. If competing requests for disposition are received, the LMA must determine the most appropriate requestor prior to disposition. Requests for joint disposition of the human remains and associated funerary object are considered a single request and not competing requests. The LMA is responsible for sending a copy of this notice to the Indian Tribes identified in this notice.

Authority: Native American Graves Protection and Repatriation Act, 25 U.S.C. 3003, and the implementing regulations, 43 CFR 10.9 and 10.11.

Dated: June 21, 2023.
Melanie O'Brien,
Manager, National NAGPRA Program.

[FR Doc. 2023-13814 Filed 6-28-23; 8:45 am]

BILLING CODE 4312-52-P